DEPARTMENT OF DEFENSE

Department of the Army; Corps of Engineers

Notice of Availability for the Final Supplemental Environmental Impact Statement/Subsequent Environmental Impact Report for the Pacific L.A. Marine Terminal LLC Crude Oil Terminal Project, Los Angeles County, CA

AGENCY: Department of the Army—U.S. Army Corps of Engineers, DoD.

ACTION: Notice of availability.

SUMMARY: The U.S. Army Corps of Engineers, Los Angeles District (Regulatory Division), in coordination with the Port of Long Angeles, has completed a Final Supplemental Environmental Impact Statement/Subsequent Environmental Impact Report (SEIS/SEIR) for the Pacific L.A. Marine Terminal LLC Crude Oil Terminal Project. The Port of Los Angeles requires authorization pursuant to Section 404 of the Clean Water Act and Section 10 of the River and Harbor Act to build a new crude oil marine terminal at Berth 408 on Pier 400 including: construction of a new marine terminal to receive crude oil from marine vessels and transfer the oil to tank farms facilities via a new 42-inch-diameter, high-volume pipeline; construction of two tank farms, Tank Farm Site 1 located on Pier 400 and Tank Farm Site 2 located on Pier 300 at Seaside Avenue/Terminal Way; construction of new pipelines to connect the new tank farm facilities to existing pipeline facilities, with the new tank farm facilities connected to the existing ExxonMobil Southwest Terminal on Terminal Island, the existing Ultramar/Valero Refinery on Anaheim Street near the Terminal Island Freeway, and to Plains All American pipeline systems near Henry Ford Avenue and Alameda Street via new and existing 36-inch, 24-inch, and 16-inch pipelines, and with all new pipelines installed belowground, with the exception of the water crossings at the Pier 400 causeway bridge and at the Valero utility/pipe bridge that crosses the Dominguez Channel west of the Ultramar/Valero Refinery. The new tank farm facilities would provide a total of 4.0 million barrels (bbl) of capacity, primarily receiving crude oil, partially refined crude oil, and occasional deliveries of Marine Gas Oil (MGO).

FOR FURTHER INFORMATION CONTACT: Questions or comments concerning the Final SEIS/SEIR should be directed to Dr. Spencer D. MacNeil, Senior Project Manager, North Coast Branch, Regulatory Division, U.S. Army Corps of Engineers, 2151 Alessandro Drive, Suite 110, Ventura, CA 93001, (805) 585-2152. Comments on the Final SEIS/SEIR will be received by Corps Regulatory Division until December 29, 2008.

SUPPLEMENTARY INFORMATION: None.

David J. Castanon,
Chief, Regulatory Division, Los Angeles District.

[FR Doc. E8-28379 Filed 11-26-08; 8:45 am]

BILLING CODE 3710-KF-P